DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. 92-463, 86 Stat. 770) requires that public notice of these meetings be announced in the Federal Register.

DATES: Wednesday, September 29, 2004, 1 p.m.-8:30 p.m.

ADDRESSES: Cities of Gold Hotel, Pojoaque, NM.

FOR FURTHER INFORMATION CONTACT: Menice Manzanares, Northern New Mexico Citizens' Advisory Board (NNMCAB), 1660 Old Pecos Trail, Suite B, Santa Fe, NM 87505. Phone (505) 995-0393; fax (505) 989-1752 or e-mail: mmanzanares@doeal.gov.

SUPPLEMENTARY INFORMATION: Purpose of the Board: The purpose of the Board is to make recommendations to DOE in the areas of environmental restoration, waste management, and related activities.

Tentative Agenda

Wednesday, September 29, 2004

1 p.m.

Call to Order by Ted Taylor, Deputy Designated Federal Officer (DDFO); Establishment of a Quorum; Welcome and Introductions by Chair; Approval of Agenda; Approval of Minutes of July 28, 2004

1:15 p.m.

Public Comment

1:30 p.m.

Consideration and Action of Proposed Bylaws Amendment No. 5, as per Section XII, page 13, of the NNMCAB Bylaws. (Tabled from 3-31-04)

Consideration and Action of Proposed Bylaws Amendment No. 6

1:45 p.m.

Board Business

A. Election of Chair and Vice-Chair for FY 2005

B. Recruitment/Membership Update

C. Report from Chair

D. Report from DOE, Ted Taylor, DDFO

E. Report from Executive Director, Menice S. Manzanares

F. Consideration and Action on Proposed FY 2005 Work Plans

G. New Business

2:30 p.m.

Break

2:45 p.m.

Reports

A. Executive Committee—Tim DeLong

B. Waste Management Committee, Jim Brannon

C. Environmental Monitoring, Surveillance and Remediation Committee, Tim DeLong

D. Community Involvement Committee, Grace Perez

E. Ad Hoc Committee on Bylaws, Jim Brannon

Second Reading and Action on Amendments 7 through 11

F. Ad Hoc Committee on Constituency Seats, Grace Perez

G. Comments from Ex-Officio Members

5 p.m.

Dinner Break

6 p.m.

Public Comment

6:15 p.m.

Presentation on Potential Expansion of Technical Area 54 (Area G) at Los Alamos National Laboratory, James Nunz, Los Alamos Site Office

7:15 p.m.

Break

7:30 p.m.

Prioritize “Opportunities for Improvement” from May Retreat

8 p.m.

Comments from Board Members and Recap of Meeting

8:30 p.m.

Adjourn

This agenda is subject to change at least one day in advance of the meeting.

Public Participation: The meeting is open to the public. Written statements may be filed with the Committee either before or after the meeting. Individuals who wish to make oral statements pertaining to agenda items should contact Menice Manzanares at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments at the beginning of the meeting.

Minutes: Minutes of this meeting will be available for public review and copying at the Freedom of Information Public Reading Room, 1E-190, Forrestal Building, 1000 Independence Avenue, SW., Washington, DC 20585 between 9 a.m. and 4 p.m., Monday-Friday, except Federal holidays. Minutes will also be available at the Public Reading Room located at the Board's office at 1660 Old Pecos Trail, Suite B, Santa Fe, NM. Hours of operation for the Public Reading Room are 9 a.m.-4 p.m. on Monday through Friday. Minutes will also be made available by writing or calling Menice Manzanares at the Board's office address or telephone number listed above. Minutes and other Board documents are on the Internet at: http://www.nnmcab.org.

Issued at Washington, DC on September 9, 2004.
Rachel Samuel,
Deputy Advisory Committee Management Officer.

[FR Doc. 04-20697 Filed 9-13-04; 8:45 am]

BILLING CODE 6405-01-P